DEPARTMENT OF THE INTERIOR

Bureau of Land Management

[CA-310-1820-AE]

Notice of Public Meeting: Northeast California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northeast California Resource Advisory Council will meet as indicated below.

DATES: The meeting will be held Thursday and Friday, Jan. 9 and 10, 2003, in the Conference Room of the Bureau of Land Management's Eagle Lake Field Office, 2950 Riverside Dr., Susanville, California. On Oct. 9, the meeting begins at 1 p.m. On Oct. 10, the council will convene at 8 a.m. Time for public comments has been set aside for 10 a.m.

FOR FURTHER INFORMATION CONTACT: Tim Burke, Field Manager, BLM Alturas Field Office, 708 West 12th St., Alturas, CA, (530) 233-4666; or BLM Public Affairs Officer Joseph J. Fontana, telephone (530) 252-5332.

SUPPLEMENTARY INFORMATION: The 15-member council advises the Secretary of the Interior, through the BLM, on a variety of planning and management issues associated with public land management in Northeast California and Northwest Nevada. At this meeting, agenda topics will include an update on wild horse and burro management, council involvement development of new BLM land use plans and an update on development of a juniper management strategy. The council will also hear status reports from the managers of the BLM's Alturas, Eagle Lake and Surprise field offices.

All meetings are open to the public. Members of the public may present written comments to the council. Each formal council meeting will have time allocated for public comments. Depending on the number of persons wishing to speak, and the time available, the time for individual comments may be limited. Individuals who plan to attend and need special assistance, such as sign language interpretation and other reasonable accommodations, should contact the BLM as provided above.

Dated: December 2, 2002.
Joseph J. Fontana,
Public Affairs Officer.

[FR Doc. 02-30961 Filed 12-6-02; 8:45 am]

BILLING CODE 4310-40-P